SMALL BUSINESS ADMINISTRATION

Public Meeting

The Mid Atlantic States Regulatory Fairness Board will hold a public hearing on May 17, 2000 at the Polytechnic University of Puerto Rico located at 377 Ponce de Leon Avenue, University Theatre Hato Rey, Puerto Rico 00919 at 9 a.m. The space is being donated by the University and the event is being co-hosted by Banco Popular. The purpose of the meeting is to receive comments and testimony from small businesses and representatives of trade associations concerning regulatory enforcement or compliance actions taken by federal agencies. Transcripts of these proceedings will be posted on the Internet. These transcripts are subject only to limited review by the National Ombudsman. Contact: Gary P. Peele (312) 353-0880.

Bettie Baca,
Counselor to the Administrator/Public Liaison.

[FR Doc. 00-10199 Filed 4-21-00; 8:45 am]

BILLING CODE 8025-01-P